DEPARTMENT OF THE INTERIOR

National Park Service

Environmental Impact Statement on Vessel Quotas and Operating Requirements for Glacier Bay National Park and Preserve

AGENCY: National Park Service, Interior.

ACTION: Notice of Intent to Prepare an Environmental Impact Statement.

SUMMARY: The National Park Service (NPS) is preparing an environmental impact statement (EIS) on vessel quotas and operating requirements for Glacier Bay National Park and Preserve, under the provisions of the National Environmental Policy Act (NEPA). The purpose of the EIS is to evaluate a range of alternatives for establishing vessel quotas and operating requirements in Glacier Bay proper, Dundas Bay and Taylor Bay.

A reasonable range of alternatives will be developed for consideration in the EIS that are responsive to significant issues raised through public involvement and comment. The proposed action would continue vessel quotas and operating requirements in accordance with the 1996 regulations. Those regulations, 36 CFR 13.65(b), established a daily limit of two cruise ships, three tour boats, six charter boats and 25 private boats in Glacier Bay proper. Seasonal entries (June 1 through August 31) were established as follows: cruise ships (139), tour boats (276), charter boats (312), and private boats (468). The regulations further provide that the number of cruise ships could be increased to 184 if scientific and other information indicated such an increase would assure protection of the values and purposes of the park. Any increase under the regulations is subject to the maximum daily limit of two cruise ships per day.

Alternatives will consider raising motorized vessel entry quotas above those established by the 1996 regulations and reducing motorized vessel entry quotas. Companion operating requirements will be identified for each alternative. The range of alternatives will consider the following preliminary issues:

• The impact of motorized vessels on park resources and values, including federally endangered humpback whales and threatened Steller sea lions.

• The level and type of motorized vessel use, in all seasons, consistent with the purposes and values of Glacier Bay National Park.

• The use of vessel quotas and operating requirements consistent with providing a range of visitor experiences including opportunities for solitude.

Scoping: The NPS requests input from federal and state agencies, local government, private organizations, recreational users, and the public. Written scoping comments are being solicited. Further information on this planning process will be available through public scoping meetings, press releases, and newsletters. Scoping meetings will be held in Anchorage, Juneau, Gustavus, Hoonah, Elfin Cove, and Pelican, Alaska and in Seattle, Washington. Specific dates, times, and locations of scoping meetings will be announced.

If individuals submitting comments request that their name or/and address be withheld from public disclosure, it will be honored to the extent allowable by law. Such requests must be stated prominently in the beginning of the comments. There also may be circumstances wherein the NPS will withhold a respondent's identity as allowable by law. The NPS will make available to public inspection all submissions from organizations or businesses and from persons identifying themselves as representatives or officials of organizations and businesses; and, anonymous comments may not be considered.

DATES: Comments concerning the scope of this project should be received within 60 days of publication of this notice. The draft EIS is projected to be available in early 2003. Comments may be mailed to the address provided below.

FOR FURTHER INFORMATION CONTACT: Joan B. Darnell, Environmental Resources Team Manager, National Park Service, Alaska Support Office, 2525 Gambell Street, Anchorage, Alaska 99503. Telephone (907) 257-2648, Fax (907) 257-2517.

SUPPLEMENTARY INFORMATION: The 3.3 million acre Glacier Bay National Park and Preserve encompasses 940 square miles of marine waters and is home to the endangered humpback whale. Glacier Bay is a major tourist destination where watercraft provides primary access to features of interest. Regulations modifying earlier vessel quotas, operating requirements, special use areas and mitigative measures were finalized in May 1996 (36 CFR 13.65) based on a May 1995 VMP/Environmental Assessment. The plan was approved by a March 1996 Finding of No Significant Impact, and included a National Marine Fishery Service Biological Opinion on the humpback whale, Steller sea lion and gray whale. NPS has developed a research program based on the conservation recommendations of the Biological Opinion.

Vessel numbers and operating requirements for cruise ships, tour boats, charter boats, and private boats have been in place for Glacier Bay National Park since 1979. Regulations implementing the 1996 Vessel Management Plan increased vessel entries above 1985 levels for cruise ships (30 percent increase initially; up to 72 percent increase) charter boats (8 percent increase) and private vessels (15 percent increase). Vessel operating requirements were also set for all vessel types, including tour boats.

On February 23, 2001, the 9th Circuit Court of Appeals determined that the portion of the 1996 VMP and the implementing regulations that authorized an increase in vessels into Glacier Bay violated NEPA because an EIS was not prepared. Accordingly, further increases in vessel traffic were prohibited and current traffic levels were returned to their pre-1996 levels. On November 5, 2001, Pub. L. 107-63 (155 Stat. 414) was signed into law. Section 130 of the act requires preparation of an EIS to identify and analyze the possible effects of the 1996 increases in the number of vessel entries issued for Glacier Bay National Park and Preserve. Section 130 further provides that the EIS is to be completed by January 1, 2004.

Dated: February 7, 2002.
Robert L. Arnberger,
Regional Director, Alaska.

[FR Doc. 02-4323 Filed 2-21-02; 8:45 am]

BILLING CODE 4310-70-P